DEPARTMENT OF VETERANS AFFAIRS

Veterans' Advisory Committee on Education; Notice of Meeting

The Department of Veterans Affairs (VA) gives notice under the Federal Advisory Committee Act, 5 U.S.C. App. 2, that the Veterans' Advisory Committee on Education will meet on June 14-16, 2016, at the Arizona State University (ASU), Tempe campus, (at Fulton Center, 300 E. University Drive, Tempe, AZ 85281) from 9 a.m. to 5 p.m. The meeting is open to the public.

The purpose of the Committee is to advise the Secretary of Veterans Affairs on the administration of education and training programs for Veterans, Servicepersons, Reservists, and Dependents of Veterans under chapters 30, 32, 33, 35, and 36 of title 38, and chapter 1606 of title 10, United States Code.

The purpose of the meeting is to assist in the evaluation of existing GI Bill programs and services, review recent legislative and administrative changes to GI Bill benefits, and submit their recommendations to the Secretary.

On June 14th, the Committee will tour the ASU Tempe campus (at the Fulton Center) from 10 a.m. to 12 p.m. and receive presentations about the administration of VA's education and training programs.

On June 15th, oral statements from students and the public will be heard at the L.S. Neeb Hall, 920 S. Forest Mall, Tempe, AZ 85281 from 1:45 p.m. to 4 p.m.

On June 16th, the Committee will reconvene at the ASU Tempe campus (at the Fulton Center) to review and summarize issues raised throughout the meeting and discuss Committee work groups and next steps.

The public may submit written statements for the Committee's review to Mr. Barrett Y. Bogue, Designated Federal Officer, Department of Veterans Affairs, Veterans Benefits Administration (223D), 810 Vermont Avenue NW., Washington, DC 20420 or email at Barrett.Bogue@va.gov. Any member of the public wishing to attend the meeting or seeking additional information should contact Mr. Bogue at (202) 461-9800.

Dated: May 6, 2016.
Jelessa Burney,
Federal Advisory Committee Management Officer.

[FR Doc. 2016-11123 Filed 5-10-16; 8:45 am]

BILLING CODE 8320-01-P